DEPARTMENT OF JUSTICE

[OMB Number 1125-XXXX]

Agency Information Collection Activities; Proposed Collection eComments Requested; Change of Address/Contact Information Form

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until September 3, 2024

FOR FURTHER INFORMATION CONTACT: If you have additional comments especially on the estimated public burden or associated response time, suggestions, or need a copy of the proposed information collection instrument with instructions or additional information, please contact Justine Fuga, Attorney Advisor, Office of the General Counsel, Executive Office for Immigration Review, 5107 Leesburg Pike, Suite 2600, Falls Church, VA 22041, telephone: (571) 294-2272, EOIR.PRA.Comments@usdoj.gov or Justine.Fuga@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Pursuant to 8 U.S.C. 1229(a)(1)(F)(ii) and 8 CFR l003.15(d)(2), individuals in EOIR immigration proceedings must provide the Immigration Court or Board of Immigration Appeals (BIA) with written notice of changes to the individual's address and contact information within five days of any change. To assist individuals in providing such written notice to the agency, EOIR created the Form EOIR-33. The form collects the individual's name, alien registration number (A-number), former and current contact information (address, phone number, and email address), and signature. The form instructs that an individual must serve a copy of the Form EOIR-33 on the opposing party. This information collection is required when an individual in EOIR immigration proceedings changes their address or contact information. The Form EOIR-33 is used by EOIR to maintain up to date mailing addresses and contact information of individuals who are subjects of immigration proceedings before the Immigration Courts and BIA so that individuals receive official communications about their immigration proceedings from EOIR and the opposing party. EOIR created two versions of the Form EOIR-33, one for submission to the Immigration Court (EOIR-33/IC) and one for submission to the BIA (EOIR-33/BIA). Both versions of the form are available in seven languages (English, Spanish, Chinese, Haitian Creole, Portuguese, Punjabi, and Russian) and may be filed with the agency and served on the opposing party electronically or by mail or hand delivery.

Overview of This Information Collection

1. Type of Information Collection: New mandatory collection.

2. The Title of the Form/Collection: Change of Address/Contact Information Form.

3. The agency form number, if any, and the applicable component of the Department sponsoring the collection: The agency form numbers are EOIR-33/IC and EOIR-33/BIA, and the Executive Office for Immigration Review is the Department component sponsoring the collection.

4. Affected public who will be asked or required to respond, as well as the obligation to respond: Individuals and households. The obligation to respond is mandatory.

5. An estimate of the total number of respondents and the amount of time estimated for an average respondent to respond: The total estimated number of respondents for the EOIR-33/IC and EOIR-33/BIA is 321,457. It is estimated that each respondent will complete the form in approximately 5 minutes.

6. An estimate of the total annual burden (in hours) associated with the collection: The estimated total annual burden hours for the EOIR-33/IC and EOIR-33/BIA is 26,681.

7. An estimate of the total annual cost burden associated with the collection, if applicable: The estimated public cost is zero. There are no capital or start-up costs associated with this information collection. There are no fees associated with filing the form. There are also no required printing costs associated with filing the form because electronic filing and service options are available.

Total Burden Hours
Activity | Number of respondents | Frequency | Total annual responses | Time per response (min) | Total annual burden (hours)
EOIR-33/IC | 315,511 | 1/annually | 315,511 | 5 | 26,187
EOIR-33/BIA | 5,946 | 1/annually | 5,946 | 5 | 494

If additional information is required contact: Darwin Arceo, Department Clearance Officer, United States Department of Justice, Justice Management Division, Policy and Planning Staff, Two Constitution Square, 145 N Street NE, 4W-218, Washington, DC.

Dated: June 28, 2024.
Darwin Arceo,
Department Clearance Officer for PRA, U.S. Department of Justice.

[FR Doc. 2024-14616 Filed 7-2-24; 8:45 am]

BILLING CODE 4410-30-P